FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011375-065.

Title: Trans-Atlantic Conference Agreement.

Parties: Atlantic Container Line AB; A.P. Moller-Maersk A/S; Mediterranean Shipping Company, S.A.; Nippon Yusen Kaisha; Orient Overseas Container Line Limited; and P&O Nedlloyd Limited.

Filing Party: Wayne R. Rohde, Esq.; Sher & Blackwell LLP; 1850 M Street, NW; Suite 900; Washington, DC 20036.

Synopsis: The amendment deletes Hapag-Lloyd Container Linie GmbH as a party to the agreement.

Agreement No.: 011574-013.

Title: Pacific Islands Discussion Agreement.

Parties: Hamburg-Süd; Polynesia Line Ltd.; FESCO Ocean Management Limited d/b/a FESCO Australia North America Line; Australia-New Zealand Direct Line, a division of CP Ships (UK) Ltd.; CMA-CGM S.A.; and Compagnie Maritime Marfret, S.A.

Filing Party: Wayne R. Rohde, Esq.; Sher & Blackwell, LLP; 1850 M Street, NW; Suite 900; Washington, DC 20036.

Synopsis: The amendment deletes P&O Nedlloyd Limited as a party to the agreement.

Agreement No.: 011584-006.

Title: NYK/WWL/NSCSA Cooperative Working Agreement.

Parties: Nippon Yusen Kaisha; Wallenius Wilhelmsen Lines AS; and National Shipping Company of Saudi Arabia.

Filing Party: Wayne R. Rohde, Esq.; Sher & Blackwell LLP; 1850 M Street, NW; Suite 900; Washington, DC 20036.

Synopsis: The agreement changes the name of Wallenius Wilhelmsen Lines AS to Wallenius Wilhelmsen Logistics AS and restates the agreement to reflect the change throughout.

Agreement No.: 011705-005.

Title: Grand Alliance-CP Ships Atlantic Agreement.

Parties: Hapag-Lloyd Container Linie GmbH; Nippon Yusen Kaisha; Orient Overseas Container Line Limited, Orient Overseas Container Line, Inc., and Orient Overseas Container Line (Europe) Limited (acting as one party); P&O Nedlloyd Limited/P&O Nedlloyd BV; and CP Ships USA, LLC.

Filing Party: Wayne R. Rohde, Esq.; Sher & Blackwell LLP; 1850 M Street, NW; Suite 900; Washington, D.C. 20036.

Synopsis: The amendment revises the service loops, vessel contributions, and space allocations under the agreement. The parties request expedited review.

Agreement No.: 011935.

Title: CSAV/NYK South America Space Charter Agreement.

Parties: Compania Sud Americana de Vapores S.A. and Nippon Yusen Kaisha.

Filing Party: Wayne R. Rohde, Esq.; Sher & Blackwell LLP; 1850 M Street, NW; Suite 900; Washington, DC 20036.

Synopsis: The agreement authorizes CSAV to charter space to NYK on its ro-ro vessels in service from Baltimore, MD, to ports in Chile.

By order of the Federal Maritime Commission.
Dated: January 27, 2006.
Bryant L. VanBrakle,
Secretary.

[FR Doc. E6-1358 Filed 1-31-06; 8:45 am]

BILLING CODE 6730-01-P